DEPARTMENT OF AGRICULTURE

Agricultural Marketing Service

[Document Number AMS-SC-19-0103, SC-20-326]

Termination of U.S. Consumer Standards

AGENCY: Agricultural Marketing Service, USDA.

ACTION: Notice.

SUMMARY: The Agricultural Marketing Service (AMS) of the Department of Agriculture (USDA) proposes to terminate the following 10 U.S. Consumer Standards: The U.S. Consumer Standards for Italian Sprouting Broccoli, U.S. Consumer Standards for Fresh Carrots, U.S. Consumer Standards for Celery Stalks, U.S. Consumer Standards for Husked Corn on the Cob, U.S. Consumer Standards for Fresh Kale, U.S. Consumer Standards for Fresh Spinach Leaves, U.S. Consumer Standards for Brussels Sprouts, U.S. Consumer Standards for Fresh Parsnips, U.S. Consumer Standards for Fresh Turnips, and U.S. Consumer Standards for Beet Greens. This proposed action is part of USDA's work to eliminate regulations that are outdated, unnecessary, ineffective, or impose costs that exceed benefits.

DATES: Comments must be submitted on or before December 28, 2020.

ADDRESSES: Interested persons are invited to submit written comments to the USDA, Specialty Crops Inspection Division, 100 Riverside Parkway, Suite 101, Fredericksburg, VA 22406; fax: (540) 361-1199; or at www.regulations.gov. Comments should reference the date and page number of this issue of the Federal Register. Comments will be posted without change, including any personal information provided. All comments received within the comment period will become part of the public record maintained by the Agency and will be made available to the public via www.regulations.gov. Comments will be made available for public inspection at the above address during regular business hours or can be viewed at: www.regulations.gov.

FOR FURTHER INFORMATION CONTACT: David G. Horner at the address above, by phone (540) 361-1120; fax (540) 361-1199; or, email Dave.Horner@usda.gov. Copies of these 10 U.S. consumer standards are available at http://www.regulations.gov.

SUPPLEMENTARY INFORMATION: Section 203(c) of the Agricultural Marketing Act of 1946 (7 U.S.C. 1621-1627) as amended, directs and authorizes the Secretary of Agriculture “to develop and improve standards of quality, condition, quantity, grade, and packaging, and recommend and demonstrate such standards in order to encourage uniformity and consistency in commercial practices.”

AMS is committed to carrying out this authority in a manner that facilitates the marketing of agricultural commodities and makes copies of official standards available upon request. The U.S. Standards for Grades of Fruits and Vegetables that no longer appear in the Code of Federal Regulations are maintained by AMS at: http://www.ams.usda.gov/grades-standards. AMS is proposing to terminate these 10 U.S. consumer standards using the procedures that appear in part 36 of Title 7 of the Code of Federal Regulations (7 CFR part 36).

Background

AMS continually reviews all fruit and vegetable grade standards to ensure their usefulness to the industry, modernize language, and remove duplicative terminology. On February 24, 2017, President Trump signed Executive Order (E.O.) 13777, Enforcing the Regulatory Reform Agenda, which established a Federal policy to alleviate unnecessary regulatory burdens on the American people. Section 3 of the E.O. directs Federal agencies to establish a Regulatory Reform Task Force to (1) evaluate existing regulations and recommend their repeal, replacement, or modification to the USDA Secretary, and (2) identify regulations that are outdated, unnecessary, ineffective, or whose costs exceed their benefits.

The consumer standards were originally developed for re-packers and were never fully adopted by industry, which instead uses U.S. grade standards intended for wholesale use, which are revised regularly to reflect current industry practices. AMS identified 10 U.S. consumer standards that are not related to a current, active marketing order, import regulation, or export act and which are obsolete. These consumer standards continue to cause confusion within the industry due to conflicting and outmoded grades and terminology. They are ineffective, unnecessary, and have become a burden to the U.S. and global produce industry.

Therefore, AMS proposes to terminate the following 10 U.S. consumer standards: U.S. Consumer Standards for Italian Sprouting Broccoli, U.S. Consumer Standards for Fresh Carrots, U.S. Consumer Standards for Celery Stalks, U.S. Consumer Standards for Husked Corn on the Cob, U.S. Consumer Standards for Fresh Kale, U.S. Consumer Standards for Fresh Spinach Leaves, U.S. Consumer Standards for Brussels Sprouts, U.S. Consumer Standards for Fresh Parsnips, U.S. Consumer Standards for Fresh Turnips, and U.S. Consumer Standards for Beet Greens.

The elimination of these U.S. consumer standards would reduce obsolete information, lessen confusion in interpreting grade standards, and promote consistency within the industry.

A 60-day comment period is provided for interested persons to submit comments on the proposal to terminate these 10 U.S. consumer standards.

Authority: 7 U.S.C. 1621-1627.

Bruce Summers,
Administrator, Agricultural Marketing Service.

[FR Doc. 2020-23349 Filed 10-27-20; 8:45 am]

BILLING CODE P